DEPARTMENT OF COMMERCE

Foreign-Trade Zones Board

[B-60-2014]

Foreign-Trade Zone 286—Caledonia, Essex and Orleans Counties, Vermont Application for Reorganization (Expansion of Service Area) Under the Alternative Site Framework

An application has been submitted to the Foreign-Trade Zones (FTZ) Board (the Board) by the Northeastern Vermont Development Association, grantee of FTZ 286, requesting authority to expand its service area under the alternative site framework (ASF) adopted by the Board (15 CFR Sec. 400.2(c)). The ASF is an option for grantees for the establishment or reorganization of general-purpose zones and can permit significantly greater flexibility in the designation of new “usage-driven” FTZ sites for operators/users located within a grantee's “service area” in the context of the Board's standard 2,000-acre activation limit for a zone. The application was submitted pursuant to the Foreign-Trade Zones Act, as amended (19 U.S. C. 81a-81u), and the regulations of the Board (15 CFR part 400). It was formally docketed on August 27, 2014.

FTZ 286 was approved by the Board on March 22, 2013 (Board Order 1890, 78 FR 20295-20296, 04-04-2013). The zone currently has a service area that includes the Counties of Caledonia, Essex and Orleans Counties.

The applicant is requesting authority to expand the service area of the zone to include Lamoille County, as described in the application. If approved, the grantee would be able to serve sites throughout the expanded service area based on companies' needs for FTZ designation. The application indicates that the proposed expanded service area is adjacent to the Derby Line Customs and Border Protection port of entry.

In accordance with the Board's regulations, Kathleen Boyce of the FTZ Staff is designated examiner to evaluate and analyze the facts and information presented in the application and case record and to report findings and recommendations to the Board. Public comment is invited from interested parties. Submissions shall be addressed to the Board's Executive Secretary at the address below. The closing period for their receipt is November 3, 2014. Rebuttal comments in response to material submitted during the foregoing period may be submitted during the subsequent 15-day period to November 17, 2014.

A copy of the application will be available for public inspection at the Office of the Executive Secretary, Foreign-Trade Zones Board, Room 21013, U.S. Department of Commerce, 1401 Constitution Avenue NW., Washington, DC 20230-0002, and in the “Reading Room”section of the Board's Web site, which is accessible via www.trade.gov/ftz. For further information, contact Kathleen Boyce at Kathleen.Boyce@trade.gov or (202) 482-1346.

Dated: August 28, 2014.
Andrew McGilvray.
Executive Secretary.

[FR Doc. 2014-20987 Filed 9-2-14; 8:45 am]

BILLING CODE 3510-DS-P